DEPARTMENT OF HEALTH AND HUMAN SERVICES

Administration for Community Living

Notice of the Establishment of the Disability, Independent Living and Rehabilitation Research Advisory Council (DILRRAC)

AGENCY: Administration for Community, HHS.

ACTION: Notice.

SUMMARY: Pursuant to the Rehabilitation Act of 1973, Section 205(a), as amended (29 U.S.C. 765), Public Law 92-463 as amended (5 U.S.C., App) and the Federal Advisory Committee Act, the Administration for Community Living (ACL), announces the establishment of the Disability, Independent Living and Rehabilitation Research Advisory Council (DILRRAC).

The DILRRAC will provide the following duties: (1) Advise the Director of the National Institute on Disability, Independent Living and Rehabilitation Research (NIDILRR) in the development, implementation and revision of the 5-year plan, ensuring priorities and activities are aligned with the tenets of the Plan; (2) provide input regarding the activities relative to the prioritization and integration of funding priorities, goals and timetables for implementation of activities to be conducted under Section 205 of the Rehabilitation Act; (3) ensure that the Director considers input of individuals with disabilities, organizations representing individuals with disabilities, providers of services furnished under this chapter, researchers in the rehabilitation field, and any other appropriate persons or entitles; (4) review accomplishments and results of covered activities, and recommend and facilitate strategies for widespread dissemination in accessible formats, to rehabilitation practitioners, providers of independent living and other community-based services, individuals with disabilities, and the individuals' representatives, and individuals with disabilities who are members of minority groups or of populations that are unserved or underserved by programs.

FOR FURTHER INFORMATION CONTACT: Dr. Kristi Wilson Hill, Designated Federal Officer, DILRRAC; Deputy Director, NIDILRR, Potomac Center Plaza, Room 5153, 550 12th Street SW., Washington, DC 20202, telephone (202) 245-6301 or fax (202) 245-7372.

The Director of NIDILRR has been delegated the authority to sign Federal Register notices pertaining to announcements of meetings and other council management activities on behalf of the ACL and NIDILRR.

Dated: March 2, 2015.
John Tschida,
Director, National Institute on Disability, Independent Living and Rehabilitation Research.

[FR Doc. 2015-05882 Filed 3-12-15; 8:45 am]

BILLING CODE 4154-01-P